ENVIRONMENTAL PROTECTION AGENCY

[FRL-8321-3]

Meetings of the Local Government Advisory Committee (LGAC)

AGENCY: Environmental Protection Agency.

ACTION: Notice.

SUMMARY: The Local Government Advisory Committee Steering Committee and the Small Community Advisory Subcommittee (SCAS) will meet via conference call(s). The conference call in number is (866) 299-3188 and the conference code, when prompted is “2025642791”.

Local Government Advisory Committee Steering Committee will meet via conference call(s) on the following dates:

Tuesday, June 19, 2007 1:30-2:30 p.m. Eastern Standard Time (EST)

Tuesday, July 24, 2007 1:30-2:30 p.m. Eastern Standard Time (EST)

Tuesday, August 21, 2007 1:30-2:30 p.m. Eastern Standard Time (EST)

Tuesday, September 25, 2007 1:30-3:30 p.m. Eastern Standard Time (EST)

Small Community Advisory Subcommittee (SCAS) will meet via conference call(s) on the following dates:

Wednesday, June 13, 2007 1-2 p.m. Eastern Standard Time (EST)

Wednesday, July 11, 2007 1-2 p.m. Eastern Standard Time (EST)

Wednesday, August 8, 2007 1-2 p.m. Eastern Standard Time (EST)

Wednesday, September 12, 2007 1-2 p.m. Eastern Standard Time (EST)

Additional information can be obtained by e-mailing the DFO for the Local Government Advisory Committee at Eargle.Frances@epa.gov, or Raymond.Anna@epa.gov for the Subcommittee on Small Community Advisory Subcommittee (SCAS) or in written correspondence at 1200 Pennsylvania Avenue, NW. (1301A), Washington, DC 20460. For further information contact: Frances Eargle, DFO for the Local Government Advisory Committee (LGAC) at (202) 564-3115 or Anna Raymond, DFO for the SCAS at (202)564-3663.

Dated: May 29, 2007.
Frances Eargle,
Designated Federal Officer, Local Government Advisory Committee.

[FR Doc. E7-10682 Filed 6-1-07; 8:45 am]

BILLING CODE 6560-50-P